DEPARTMENT OF ENERGY

Notice of 229 Boundary Revision at the Paducah Gaseous Diffusion Plant

AGENCY: Department of Energy (DOE).

ACTION: Notice.

SUMMARY: The Notices concerning unauthorized entry into or upon areas, buildings, and other facilities of the Paducah Gaseous Diffusion Plant, located in McCracken County, KY, published at (30 FR 13287, October 19, 1965 and at 45 FR 30106, May 7, 1980) are amended by substitution of the following descriptive language for the entirety of the former descriptions.

SUPPLEMENTARY INFORMATION: Notice is hereby given, by the Department of Energy, pursuant to Section 229 of the Atomic Energy Act of 1954, as amended, and as implemented by 10 CFR Part 860, and by Section 705(a) of the Department of Energy Organization Act, that unauthorized entry, as provided in 10 CFR 860.3, and the unauthorized introduction of dangerous weapons, explosives, or dangerous materials or dangerous instruments likely to produce substantial injury or damage to persons or property, as provided in 10 CFR 860.4, into or upon this facility, installation, or real property of the Paducah Gaseous Diffusion Plant located in McCracken County, Kentucky, as more fully described below, is prohibited by the United States Department of Energy. The areas subject to the above described prohibitions are more particularly described as follows:

1. The Department of Energy installation known as the Paducah Gaseous Diffusion Plant located in McCracken County, KY, approximately 6,000 feet North of Woodville Road (State Route 725) and approximately 6,300 feet West of Metropolis Lake Road. The primary security interest area, including a buffer area, totals approximately 1,342 acres with boundary coordinates as follows:

Longitude | Latitude
1. 88.82566308 | 37.08885001
2. 88.81798343 | 37.10599209
3. 88.82655474 | 37.10845764
4. 88.82809126 | 37.11325409
5. 88.82809126 | 37.11676083
6. 88.82374798 | 37.11646865
7. 88.81993743 | 37.12479987
8. 88.80973832 | 37.12183780
9. 88.80839907 | 37.12475971
10. 88.80727527 | 37.12206995
11. 88.80472524 | 37.12163638
12. 88.79639904 | 37.11904332
13. 88.80358172 | 37.10300759
14. 88.80657162 | 37.09992874
15. 88.81123139 | 37.09860962
16. 88.82008684 | 37.09825329
17. 88.82436407 | 37.08842103

2. The Department of Energy landfill installation located North of Item 1 above and consisting of approximately 106 acres enclosed by a chain-link fence with boundary coordinates as follows:

Longitude | Latitude
1. 88.80235649 | 37.12538578
2. 88.79890091 | 37.13329589
3. 88.79333779 | 37.13168788
4. 88.79527431 | 37.12805870
5. 88.79601369 | 37.12826426
6. 88.79756107 | 37.12494008
7. 88.79855316 | 37.12421613

Issued in Paducah, Kentucky on January 12, 2012.
William E. Murphie,
Manager, Portsmouth/Paducah Project Office.

[FR Doc. 2012-1214 Filed 1-20-12; 8:45 a.m.]

BILLING CODE 6450-01-P